DEPARTMENT OF AGRICULTURE

Forest Service

36 CFR Part 212

Travel Management; Designated Routes and Areas for Motor Vehicle Use

AGENCY: Forest Service, USDA.

ACTION: Final rule.

SUMMARY: The Forest Service is revising the travel management rule to make it consistent with language proposed in the rule's implementing directives that was published for public notice and comment in the Federal Register and that has been adopted in the final directives. The notice adopting the final travel management directives is contained in the same issue of the Federal Register as this rule. The change to the travel management rule is needed to allow for limited motor vehicle use on National Forest System (NFS) lands within a specified distance of State or county roads or trails solely for the purposes of dispersed camping or big game retrieval.

In addition, the agency is removing a redundant paragraph from the regulations concerning the travel management rule.

DATES: Effective Date: This rule is effective January 8, 2009.

FOR FURTHER INFORMATION CONTACT: Deidre St. Louis, Recreation, Heritage, and Volunteer Resources Staff, (202) 205-0931.

SUPPLEMENTARY INFORMATION: The travel management rule requires designation of those roads, trails, and areas that are open to motor vehicle use. Designations are made by class of vehicle and, if appropriate, by time of year (36 CFR 212.51(a)). The rule prohibits the use of motor vehicles off the designated system, as well as use of motor vehicles on routes and in areas that is not consistent with the designations (36 CFR 261.13). Responsible officials may include in the designation the limited use of motor vehicles within a specified distance of certain designated routes, and if appropriate within specified time periods, solely for the purposes of dispersed camping or retrieval of a downed big game animal by an individual who has legally taken that animal (big game retrieval) (36 CFR 212.51(b)).

In many places in the NFS, visitors use motor vehicles for dispersed camping or big game retrieval within a limited distance of State or county roads or trails, which are not under the jurisdiction of the Forest Service and cannot be designated for motor vehicle use (36 CFR 212.1, 212.50(a), and 212.51(a)). The travel management rule currently allows for motor vehicle use for dispersed camping or big game retrieval only in conjunction with designated routes.

Consequently, the proposed directives implementing the travel management rule contained language at Forest Service Manual (FSM) 7710 that would allow the responsible official to include in a designation the limited use of motor vehicles within a specified distance of certain forest roads and forest trails, and if appropriate within specified time periods, solely for the purposes of dispersed camping or big game retrieval. Forest roads and trails include State and county roads and trails in the NFS, as well as NFS roads and NFS trails (36 CFR 212.1). The Forest Service published the proposed directives for implementing the travel management rule for public notice and comment in the Federal Register on March 9, 2007 (72 FR 10632). In the final directives at FSM 7715.74, the Forest Service has retained the provision in proposed FSM 7710 that would allow the responsible official to include in a designation the limited use of motor vehicles within a specified distance of certain forest roads and forest trails, and if appropriate within specified time periods, solely for the purposes of dispersed camping or big game retrieval. In addition, the agency has included the phrase, “where motor vehicle use is allowed” after “certain forest roads and forest trails,” since not all forest roads and trails are open to motor vehicle use. The agency is revising the travel management rule at 36 CFR 212.51(b) to make it consistent with FSM 7715.74 in the final directives. Since the proposed language regarding dispersed camping and big game retrieval was subjected to full public notice and comment under the Administrative Procedure Act, further public notice and comment are unnecessary (5 U.S.C. 553(b)(B)).

In addition, the agency is removing paragraph (d) of 36 CFR 212.2, which governs the program of work for the forest transportation system, as it duplicates verbatim paragraph (c) of that section. Public notice and comment regarding this minor, purely nonsubstantive correction of a formatting error are unnecessary (5 U.S.C. 553(b)(B)).

List of Subjects in 36 CFR Part 212

Highways and roads, National forests, Public lands—rights-of-way, and Transportation.

For the reasons set forth in the preamble, part 212 of title 36 of the Code of Federal Regulations is amended to read as follows:

PART 212—TRAVEL MANAGEMENT

Subpart A—Administration of the Forest Transportation System

1. The authority citation for part 212, subpart A, continues to read as follows:

Authority: 16 U.S.C. 551, 23 U.S.C. 205.

§ 212.2 [Amended]

2. In § 212.2, remove paragraph (d).

Subpart B—Designation of Roads, Trails, and Areas for Motor Vehicle Use

3. The authority citation for part 212, subpart B, continues to read as follows:

Authority: 7 U.S.C. 1011(f), 16 U.S.C. 551, E.O. 11644, 11989 (42 FR 26959).

4. Revise § 212.51 paragraph (b) to read as follows:

§ 212.51 Designation of roads, trails, and areas.

* * * * *

(b) Motor vehicle use for dispersed camping or big game retrieval. In designating routes, the responsible official may include in the designation the limited use of motor vehicles within a specified distance of certain forest roads or trails where motor vehicle use is allowed, and if appropriate within specified time periods, solely for the purposes of dispersed camping or retrieval of a downed big game animal by an individual who has legally taken that animal.

* * * * *

Dated: November 10, 2008.
Mark Rey,
Under Secretary, Natural Resources and Environment.

[FR Doc. E8-29040 Filed 12-8-08; 8:45 am]

BILLING CODE 3410-11-P